DEPARTMENT OF HEALTH AND HUMAN SERVICES

Health Resources and Services Administration

Agency Information Collection Activities: Proposed Collection; Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on this project or to obtain a copy of the data collection plans and instruments, call the HRSA Reports Clearance Officer at (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Advanced Education Nursing Traineeship and Nurse Anesthetist Traineeship Forms

The Health Resources and Services Administration (HRSA) developed the Advanced Education Nursing Traineeship (AENT) and Nurse Anesthetist Traineeship (NAT) Forms for the Guidance Application for the Traineeship Programs. The AENT/NAT Traineeship forms are used annually by new applicants that are applying for AENT and NAT funding. The AENT and NAT programs provide training grants to educational institutions to increase the numbers of advanced education nurses. Award amounts are based on enrollment, traineeship support, graduate data and two funding preferences to institutions which meet the criteria for the preference.

The AENT/NAT Traineeship forms include information on program participants such as the number of enrollees, number of graduates and the types of programs they are enrolling into and/or graduating from. These forms will be available electronically through Grants.gov. AENT and NAT applicants will have a single access point to submit their grant applications and AENT/NAT Traineeship forms.

The system will be designed so that the data from the prior year's submission will be pre-populated. This will significantly reduce the burden to AENT and NAT applicants. They will need only edit those sections that have changed. The electronic system will conduct automated checks on data validity, data consistency and application completeness. This facilitates application review and eliminates much of the previously required data cleansing. Finally, data from this system will be used in the award determination and validation process. Additionally, the data will be used to ensure programmatic compliance, report to Congress and policymakers on the program accomplishments, formulate, and justify future budgets for these activities submitted to the Office of Management and Budget and Congress.

The estimated average annual burden per year is as follows:

Type of respondent | Number of respondents | Responses per respondent | Burden hours per response | Total burden hours
AENT | 350 | 1 | 1 | 350
NAT | 80 | 1 | 1 | 80
Total | 430 |  |  | 430

Send comments to Susan G. Queen, Ph.D., HRSA Reports Clearance Officer, Room 10-33, Parklawn Building, 5600 Fishers Lane, Rockville, MD 20857. Written comments should be received within 60 days of notice.

Dated: June 6, 2006.
Cheryl R. Dammons,
Director, Division of Policy Review and Coordination.

[FR Doc. E6-9199 Filed 6-12-06; 8:45 am]

BILLING CODE 4165-15-P